DEPARTMENT OF TRANSPORTATION

Office of the Secretary

Aviation Proceedings, Agreements Filed the Week Ending October 24, 2008

The following Agreements were filed with the Department of Transportation under the sections 412 and 414 of the Federal Aviation Act, as amended (49 U.S.C. 1383 and 1384) and procedures governing proceedings to enforce these provisions. Answers may be filed within 21 days after the filing of the application.

Docket Number: DOT-OST-2008-0310.

Date Filed: October 23, 2008.

Parties: Members of the International Air Transport Association.

Subject: Technical Correction: Mail Vote 576—Resolution 010e. TC3 Special Passenger Amending Resolution. From Hong Kong SAR (HK) to Japan. (Memo 1243). Intended effective date: 15 November 2008.

Renee V. Wright,
Program Manager, Docket Operations, Federal Register Liaison.

[FR Doc. E8-27454 Filed 11-18-08; 8:45 am]

BILLING CODE 4910-9x-P